SECURITIES AND EXCHANGE COMMISSION

[File No. 500-1]

In the Matter of Redfin Network, Inc.; Order of Suspension of Trading

August 15, 2013.

It appears to the Securities and Exchange Commission that there is a lack of current and accurate information concerning the securities of Redfin Network, Inc. (“Redfin”) because it has not filed a periodic report since it filed its Form 10-Q for the period ending September 30, 2012, filed on November 9, 2012.

The Commission is of the opinion that the public interest and the protection of investors require a suspension of trading in the securities of Redfin. Therefore, it is ordered, pursuant to Section 12(k) of the Securities Exchange Act of 1934, that trading in the securities of Redfin is suspended for the period from 9:30 a.m. EDT on August 15, 2013, through 11:59 p.m. EDT on August 28, 2013.

By the Commission.
Jill M. Peterson,
Assistant Secretary.

[FR Doc. 2013-20228 Filed 8-15-13; 11:15 am]

BILLING CODE 8011-01-P